DEPARTMENT OF DEFENSE

Strategic Environmental Research and Development Program, Scientific Advisory Board; Notice of Federal Advisory Committee Meeting

AGENCY: Department of Defense.

ACTION: Notice.

SUMMARY: The Department of Defense is publishing this notice to announce an open meeting of the Strategic Environmental Research and Development Program, Scientific Advisory Board (SAB). This meeting will be open to the public.

DATES: Thursday, September 11, 2014, from 8:30 a.m. to 12:45 p.m.

ADDRESSES: 901 N. Stuart Street, Suite 200, Arlington, VA 22203.

FOR FURTHER INFORMATION CONTACT: Dr. Anne Andrews, SERDP Office, 4800 Mark Center Drive, Suite 17D08, Alexandria, VA 22350-3605; or by telephone at (571) 372-6565.

SUPPLEMENTARY INFORMATION: This meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463).

Pursuant to 5 U.S.C. 552b and 41 CFR 102-3.140 through 102-3.165, and the availability of space, this meeting is open to the public. Seating is on a first-come basis.

Due to difficulties finalizing the meeting agenda for the scheduled meeting of September 11, 2014, of the Strategic Environmental Research and Development Program Scientific Advisory Board the requirements of 41 CFR § 102-3.150(a) were not met. Accordingly, the Advisory Committee Management Officer for the Department of Defense, pursuant to 41 CFR § 102-3.150(b), waives the 15-calendar day notification requirement.

The purpose of the September 11, 2014 meeting is to review new start research and development projects requesting Strategic Environmental Research and Development Program funds in excess of $1 million over the proposed length of the project as required by the SERDP Statute, U.S. Code ‐ Title 10, Subtitle A, Part IV, Chapter 172, § 2904. The full agenda follows:

8:30 a.m. | Convene | Mr. Joseph Francis, Chair.
8:35 a.m. | Environmental Restoration Overview | Dr. Andrea Leeson, Environmental Restoration Program Manager.
8:40 a.m. | 15 ER02-001 (ER-2301): Developing and Validating Genetic Catabolic Probes to Quantitatively Assess Monitored Natural Attenuation of 1,4-Dioxane (FY15 Follow-On) | Dr. Pedro Alvarez, Rice University, Houston, TX.
9:25 a.m. | Environmental Restoration Overview | Dr. Andrea Leeson, Environmental Restoration Program Manager.
9:30 a.m. | 15 ER01-015 (ER-2529): Estimating Mobile-Immobile Mass Transfer Parameters using Direct Push Tools (FY15 New Start) | Dr. Robert Borden, Solutions-IES, Raleigh, NC.
10:15 a.m. | Break |
10:30 a.m. | 15 ER01-017 (ER-2530): Biogeochemical Processes that Control Natural Attenuation of Trichloroethylene in Low Permeability Zones (FY15 New Start) | Dr. Charles Werth, University of Illinois at Urbana-Champaign, Urbana, IL.
11:15 a.m. | 15 ER01-026 (ER-2532): Biologically Mediated Abiotic Degradation of Chlorinated Ethenes: A New Conceptual Framework (FY15 New Start) | Dr. Michelle Scherer, University of Iowa, Iowa City, IA.
12:00 p.m. | 15 ER01-031 (ER-2533): A Field Method to Quantify Chlorinated Solvent Diffusion, Sorption, Abiotic and Biotic Degradation in Low Permeability Zones (FY14 New Start) | Dr. Richelle Allen-King, University at Buffalo, The State University of New York, Buffalo, NY.

Pursuant to 41 CFR 102-3.140 and section 10(a)(3) of the Federal Advisory Committee Act of 1972, the public or interested organizations may submit written statements to the Strategic Environmental Research and Development Program, Scientific Advisory Board. Written statements may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://www.facadatabase.gov/.

Time is allotted at the close of each meeting day for the public to make comments. Oral comments are limited to 5 minutes per person.

Dated: August 27, 2014.
Aaron Siegel,
Alternate OSD Federal Register Liaison Officer, Department of Defense.

[FR Doc. 2014-20748 Filed 8-29-14; 8:45 am]

BILLING CODE 5001-06-P